DEPARTMENT OF LABOR

Office of the Secretary

Education Innovations to Combat Child Labor

AGENCY: Bureau of International Labor Affairs, Department of Labor.

ACTION: Notice of availability of funds and solicitation for Cooperative Agreement Applications (SGA 02-01).

This notice contains all of the necessary information and forms needed to apply for cooperative agreement funding.

SUMMARY: The U.S. Department of Labor, Bureau of International Labor Affairs, will award US $5 million to an organization to administer an education innovations program under the Child Labor Education Initiative of the International Child Labor Program. The program will promote, assess, and document innovative approaches to providing basic education to child laborers and children at risk of working in countries or regions with high rates of child labor. One organization (or a partnership of two organizations) will be selected to implement this program. The program will enable the organization to identify and promote innovative locally developed and community-based pilot projects that correspond to the Child Labor Education Initiative's strategic objectives, and to document innovative models for potential replication and expansion. As part of this cooperative agreement, the organization may use up to US $750,000 to support its (their) own projects that address the educational needs of working children and those at risk of working.

DATES: The closing date for receipt of applications is June 7, 2002. Applications must be received by 4:45 p.m. (Eastern Time) at the address below. No exceptions to the mailing, delivery, and hand-delivery conditions set forth in this notice will be granted. Applications that do not meet the conditions set forth in this notice will not be honored. Telegram, facsimile (FAX), and e-mail applications will not be honored.

ADDRESSES: Application forms will not be mailed. They are published in this Federal Register Notice, and in the Federal Register which may be obtained from your nearest U.S. Government office or public library or online at http://www.nara.gov/fedreg/nfpubs.html.

Applications must be delivered to: U.S. Department of Labor, Procurement Services Center, 200 Constitution Avenue, NW., Room N-5416, Attention: Lisa Harvey, Reference: SGA 02-01, Washington, DC 20210.

FOR FURTHER INFORMATION CONTACT: Lisa Harvey. E-mail address: harvey-lisa@dol.gov. All applicants are advised that U.S. mail delivery in the Washington, DC area has been slow and erratic due to the recent concerns involving anthrax contamination. All applicants must take this into consideration when preparing to meet the application deadline. It is recommended that you confirm receipt of your application by contacting Lisa Harvey, U.S. Department of Labor, Procurement Services Center, telephone (202) 693-4570 (this is not a toll-free number), prior to the closing deadline. All inquiries should reference SGA 02-01.

SUPPLEMENTARY INFORMATION: The U.S. Department of Labor (USDOL), Bureau of International Labor Affairs (ILAB), announces the availability of funds to be granted by cooperative agreement to one qualifying organization or to a partnership between two such organizations for the purpose of identifying innovative and locally-developed methods of preventing and combating child labor through basic education. The cooperative agreement will be managed by the International Child Labor Program (ICLP), ILAB, to assure achievement of the stated goals. Applicants are encouraged to be creative in proposing mechanisms for implementing the education innovations program, selecting projects, and establishing an effective monitoring and evaluation system to measure outcomes of the program and develop final documentation of potential models for replication or expansion.

I. Background and Program Scope

A. USDOL Support of the Global Elimination of Child Labor

The International Labor Organization estimates that there are 250 million working children between the ages of 5 and 14 in developing countries, about half of whom work full-time. Full-time child workers are generally unable to attend school, and from an early age part-time child laborers must balance economic survival with schooling, often to the detriment of their education.

The existence of child labor has many implications for a country. Education is a key investment that has been linked to the acceleration of a nation's productivity and socioeconomic development. Poorly educated workers tend to earn less, live in poverty, and may need to send their own children to work at a young age. It is important to undertake education initiatives for child laborers and their at-risk siblings because their lack of schooling hinders the development of a modern workforce, overall labor market reform, poverty reduction and social progress.

Since 1995, as mandated by the U.S. Congress, USDOL has supported a worldwide technical assistance program implemented by the International Labor Organization's International Program on the Elimination of Child Labor (ILO/IPEC). USDOL contributions to date to ILO/IPEC have amounted to some US $112 million, making the United States the program's largest donor and a leader in global efforts to combat child labor. In USDOL's FY 2001 and 2002 appropriations, in addition to US $90 million in funds earmarked for the ILO/IPEC, the Department received an additional US $74 million for a Child Labor Education Initiative that will fund programs that increase access to quality, basic education in areas with a high incidence of child labor. The cooperative agreement(s) awarded under this solicitation will be funded by this new initiative.

USDOL's Child Labor Education Initiative nurtures the development, health, safety and enhanced future employability of children around the world by increasing access to basic education for children removed from child labor or at risk of entering it. Child labor elimination will depend in part on improving access to, quality of, and relevance of education. Without improving educational quality and relevance, children withdrawn from child labor may not have viable alternatives and could resort to other forms of hazardous work.

The Child Labor Education Initiative has the following four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

A more detailed discussion of these objectives is provided in Appendix C.

B. The Education Innovations Program of the Child Labor Education Initiative

The education innovations program is intended to provide support to community-based organizations in countries or areas within countries with high rates of child labor. The program seeks to promote the capacity of local non-governmental organizations (NGOs), civil society organizations (CSOs), or other organizations already working on the issues of basic education and/or child labor to respond creatively and effectively to the complex challenge of educating children removed from child labor or at risk of entering it. The program will support innovative, locally developed pilot activities that support the Child Labor Education Initiative's four strategic objectives (see Section I.A).

Projects that receive support under the education innovations program would work to identify and develop new initiatives; to extend successful existing activities; or to encourage knowledge sharing through the establishment of best practices. The program will promote innovation by ensuring careful monitoring and documentation of activities from pilot projects with the potential for expansion and/or replication.

The education innovations program will seek to provide funds to organizations with the ability to create demonstrable impact on access to quality basic education with the funds. The major portion of the funds (US $4.25 million) will be used to support innovative grassroots initiatives to improve access and quality of education for working children or children at risk of going to work and for the overall administration of the program. The remainder of the funding (US $750,000) will be available to the Cooperative Agreement Awardee (hereafter referred to as “Grantee”) to support projects by its (their) own field offices for the education of child laborers or children at risk of working. All activities funded must correspond to the Child Labor Education Initiative's strategic objectives.

II. Authority

ILAB is authorized to award and administer this program as set forth in the Consolidated Appropriations Act, 2001, Public Law 106-554, 114 Stat. 2763A-10 (2000).

III. Application Process

A. Eligible Applicants

Any commercial, international, or non-profit organization with prior experience in increasing access to basic education (formal or non-formal) for disadvantaged groups, extensive international field presence, and a demonstrated capacity to develop, administer, monitor, and document the education innovations program is eligible for this cooperative agreement. A maximum of two organizations may submit one application under this solicitation to work in partnership in performing all the specific work requirements presented herein for the development and administration of the education innovations program. Prior experience in administering such programs is highly desirable.

The capability of an applicant to perform necessary aspects of this solicitation will be determined under Section V.B—Rating Criteria and Selection.

Please note that eligible cooperative agreement applicants must not be classified under the internal revenue code as a 501(c)(4) entity. See 26 U.S.C. 501(c)(4). According to section 18 of the Lobbying Disclosure Act of 1995, an organization, as described in section 501(c)(4) of the Internal Revenue Code of 1986, that engages in lobbying activities will not be eligible for the receipt of federal funds constituting an award, grant, or loan.

B. Submission of Applications

One (1) ink-signed original, complete application in English plus two (2) copies of the application, must be submitted to the U.S. Department of Labor, Procurement Services Center, 200 Constitution Avenue, NW., Room N-5416, Washington, DC 20210, not later than 4:45 p.m. ET, June 7, 2002. Accompanying documents must also be in English. To aid with review of applications, USDOL also encourages applicants to submit two additional paper copies of the application (five total). Applicants who do not provide additional copies will not be penalized.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical application that demonstrates the applicant's capabilities in accordance with the Statement of Work and the selection criteria.

To be considered responsive to this solicitation, the application must consist of the above-mentioned separate sections not to exceed 30 single-sided (8½ × 11 inches), double-spaced, 10 to 12 pitch typed pages. Any applications that do not conform to these standards will be deemed non-responsive to this solicitation and will not be evaluated. Standard forms and attachments are not included in the page limit. Each application must include a table of contents and an abstract summarizing the application in not more than two (2) pages. These pages are also not included in the page limits.

Upon completion of negotiations, the individual signing the SF 424 on behalf of the applicant must be authorized to bind the applicant.

C. Acceptable Methods of Submission

Applications sent by e-mail, telegram, or facsimile (FAX) will not be accepted. Applications sent by other delivery services, such as Federal Express, UPS, etc., will be accepted; however, the applicant bears the responsibility for timely submission. Because of delays in the receipt of mail in the Washington, DC area, it is recommended that you confirm receipt of your application by contacting Lisa Harvey, U.S. Department of Labor, Procurement Services Center, telephone (202) 693-4570 (this is not a toll-free number), prior to the closing deadline. All inquiries should reference SGA 02-01.

D. Funding Levels

Up to US $5 million will be awarded under this cooperative agreement (hereafter also referred to as “grant”). The Grantee will use at least US $4.25 million to fund activities (through the use of sub-contracts) worldwide in countries or regions with high child labor rates, and that support the strategic objectives of the Child Labor Education Initiative, and to administer the program. Funds of up to US $750,000 are also provided for promising and innovative activities by the Grantee's own field offices (either at the country or regional level), corresponding to the strategic objectives of the USDOL's Child Labor Education Initiative. All funds must be obligated by the Grantee by January 2005.

E. Project Duration

The duration of the program funded by this SGA is four (4) years. The start date of program activities will be negotiated upon award of grant. All activities under the grant must be closed and all activities of the Grantee finalized by the end of September 2007.

IV. Project Requirements

A. Statement of Work

1. Recognizing that child labor adversely impacts long-term poverty alleviation and future labor market development, the emphasis of the education innovations program must be on the following:

a. Developing innovative strategies for involving government and other social partners in the development and implementation of projects to provide education to all children in areas of high prevalence of child labor, with priority given to the worst forms of child labor (as defined in ILO Convention No. 182).

b. Developing relevant information, education, and communication materials aimed at increasing awareness at the local and national levels of the importance of including child laborers in Education for All initiatives.

c. Promoting best practices and replicable programs that provide future strategies to improve educational access and quality for children removed from child labor or at risk of being drawn into work.

d. Identifying policy, programs, and practical measures in target countries to strengthen the capacity of national and local institutions to support and sustain the removal of children from work, and their placement and successful integration and achievement in education settings.

e. Identifying approaches to increase local ownership and sustainability of the programs.

2. All projects funded should support one or more of the four goals of USDOL's Child Labor Education Initiative listed in Section I.A.

3. In response to this solicitation and in subsequent implementation, the Grantee shall:

a. Design a US $5 million program to correspond to the strategic objectives of the Child Labor Education Initiative. The program will have two components: at least US $4.25 million to be applied towards funding grassroots education innovations and the administration of the entire program, and up to US $750,000 to fund the Grantee's own innovative activities that combat child labor through education. When designing the program, the Grantee should consider the following elements: composition of project selection committee(s); means of advertising fund availability (so as to reach as broad a population as possible); process to manage sub-contracts; method for disbursement of funds; and technical and financial reporting. Similar processes should be applied to funds for the Grantee's own programs as to sub-contracts.

b. Develop a process and criteria for selection of organizations that will receive funds to undertake efforts to improve access to quality, relevant education for child laborers and for children at risk of working (see Section V.B.4 and V.B.5). Funds will be awarded through sub-contracts to foster innovation in education. Projects funded should vary in size: at least 15% of available funding should go to small sub-contracts (under US $10,000); at least 45% of available funds should go to medium-size sub-contracts (US $10,000-$100,000); and no more than 40% of available funding should go to larger sub-contracts (US $100,000-$250,000). Sub-contracts may not exceed US $250,000 and may be awarded in any country worldwide (even where the Grantee has no field presence). Distribution of grant money across regions should be proportionate to the need evident in those regions. The Grantee will advertise availability of funds as necessary and select projects, with USDOL review and approval of all requests for proposals. Funds from this portion of the grant may not be awarded to the Grantee's own offices. Final approval of projects selected for funding must be given by USDOL.

c. Design an approach to monitor the implementation of all projects funded, evaluate education innovations program outcomes and document potentially replicable or expandable activities. Corresponding indicators of performance will be developed by the Grantee and approved by USDOL to ensure compliance with the strategic objectives of the Child Labor Education Initiative.

d. The Grantee will be expected to monitor the implementation of the program, report to USDOL on a quarterly basis, evaluate program results, and deliver final documentation of best practices. The Grantee must develop annual work plans that will be approved by USDOL, one for the administration of the education innovations sub-contracts and another for funds provided to the Grantee's projects. Corresponding indicators of performance will also be developed by the Grantee and approved by USDOL.

B. Deliverables

Unless otherwise indicated, the Grantee must submit copies of all required reports to ICLP/ILAB by the specified due dates. Other documents, such as project design documents, are to be submitted by mutually agreed upon deadlines. All project activities must be completed and closed out by the end of September 2007.

1. Project Design. A project document in a format to be established by ILAB will be used, and will include a background/justification section, project strategy (objectives, outputs, activities, indicators), project implementation timetable, and project budget. The project design will be drawn from the application written in response to this solicitation. The document will also include sections that address coordination strategies, project management, and sustainability. The time for delivery of this document will be negotiated at the time of the award.

2. Annual Work Plan. An annual work plan, in a mutually agreed-upon format and preferably with a visual such as a Gantt chart, will be developed within two months of project award and approved by ILAB. Subsequent annual work plans will be delivered no later than one year after the previous one.

3. Monitoring and Evaluation Plans. By the end of the third month of the award, the Grantee must submit two monitoring and evaluation plans: one for sub-contracts and another for funds provided to its own offices. These plans will be developed in collaboration with ILAB, and will include site visits, reporting requirements, and planned and actual dates for the midterm review and final evaluation.

4. Technical and Financial Progress Reports. The Grantee must furnish a typed technical report to ILAB on a quarterly basis by 31 March, 30 June, 30 September, and 31 December. The Grantee must also furnish a separate financial report (SF-272) to ILAB on the quarterly basis mentioned above. The format for the technical progress report will be the format developed by ILAB and must contain the following information:

a. For each project objective, an accurate account of activities carried out under that objective during the reporting period;

b. An accounting of staff and any subcontractor hours expended;

c. A description of current problems that may impede performance, and proposed corrective action;

d. Future actions planned in support of each project objective;

e. Aggregate amount of costs incurred during the reporting period; and

f. Progress on indicators of performance (to be reported annually).

5. Spotlight Stories. The Grantee will submit “spotlight stories” that highlight the activities and illuminate best practices being undertaken by sub-contractors to ILAB on an annual basis.

6. Presentation of Models. At both the halfway point and at the conclusion of the program, the Grantee will present ILAB with innovative models funded by the education innovations program that address the four goals of USDOL's Child Labor Education Initiative.

7. Evaluation Reports. The Grantee and the Grant Officer's Technical Representative (GOTR) will determine on a case-by-case basis whether an internal or external evaluation team will conduct the midterm evaluation of the education innovations program. The Grantee will respond to any comments and recommendations resulting from the review of the midterm report. The final evaluation will be external in nature. Terms of reference for the evaluations must be provided to USDOL for comments before evaluations are conducted.

C. Production of Deliverables

1. Materials Prepared Under the Cooperative Agreement. The Grantee must submit to ILAB all media-related and educational materials developed by it or by its sub-contractors before they are reproduced, published, or used. ILAB considers that education materials include brochures, pamphlets, videotapes, slide-tape shows, curricula, and any other training materials used in the program. ILAB will review materials for technical accuracy. The Grantee must obtain prior approval from the Grant Officer for all materials developed or purchased under this cooperative agreement. All materials produced by the Grantee must be provided to USDOL in a digital format for possible publication by USDOL.

2. Acknowledgment of USDOL Funding. In all circumstances the following must be displayed on printed materials:

Preparation of this item was funded by the United States Department of Labor under Cooperative Agreement No. E-9-X-X-XXXX.

When issuing statements, press releases, requests for proposals, bid solicitations, and other documents describing projects or programs funded in whole or in part with Federal money, a Grantee receiving Federal funds must clearly state:

a. The percentage of the total costs of the program or project that will be financed with Federal money;

b. The dollar amount of Federal funds for the project or program; and

c. The percentage and dollar amount of the total costs of the project or program that will be financed by non-governmental sources.

In consultation with ILAB, identification of USDOL's role will be determined to be one of the following:

(1) The USDOL logo may be applied to USDOL-funded material prepared for world-wide distribution, including posters, videos, pamphlets, research documents, national survey results, impact evaluations, best practice reports, and other publications of global interest. The Grantee will consult with USDOL on whether the logo should be used on any such items prior to final draft or final preparation for distribution. In no event will the USDOL logo be placed on any item until USDOL has given the Grantee written permission to use the logo, after obtaining appropriate internal USDOL approval for use of the logo on the item.

(2) If ILAB determines the logo is not appropriate and does not give written permission, the following notice must appear on the document:

This document does not necessarily reflect the views or policies of the U.S. Department of Labor, nor does mention of trade names, commercial products, or organizations imply endorsement by the U.S. Government.

D. Administrative Requirements

1. General. Grantee organizations are subject to applicable Federal laws (including provisions of appropriations law) and the applicable Office of Management and Budget (OMB) Circulars. Determinations of allowable costs will be made in accordance with the applicable Federal cost principles. The cooperative agreement(s) awarded under this SGA are subject to the following administrative standards and provisions, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Governmentwide Debarment and Suspension (Nonprocurement) and Governmentwide Requirements for Drug-Free Workplace (Grants).

29 CFR Part 99—Federal Standards for Audits of States, Local Governments, and Non-Profit Organizations.

2. Sub-contracts. Sub-contracts must be awarded in accordance with 29 CFR 95.40-48. In compliance with Executive Orders 12876 as amended, 13230, 12928 and 13021 as amended, the Grantee is strongly encouraged to provide sub-contracting opportunities to Historically Black Colleges and Universities, Hispanic Serving Institutions and Tribal Colleges and Universities. No sub-grants shall be awarded under this grant.

3. Key Personnel. The applicant shall list individual(s) who has (have) been designated as having primary responsibility for the conduct and completion of all work in project(s) it proposes (see Section V.B.3). The applicant will submit written proof that key personnel will be available to begin work on the project no later than three weeks after award. The Grantee agrees to inform the GOTR whenever it appears impossible for these individual(s) to continue work on the project as planned. The Grantee may nominate substitute personnel for approval of the GOTR; however, the Grantee must obtain prior approval from the Grant Officer for all key personnel. If the Grant Officer is unable to approve the personnel change, he/she reserves the right to terminate the cooperative agreement.

4. Encumbrance of Cooperative Agreement Funds. Cooperative agreement funds may not be encumbered/obligated by the Grantee before or after the cooperative agreement period of performance. Encumbrances/obligations outstanding as of the end of the cooperative agreement period may be liquidated (paid out) after the end of the cooperative agreement period. Such encumbrances/obligations shall involve only specified commitments for which a need existed during the grant period and which are supported by approved contracts, purchase orders, requisitions, invoices, bills, or other evidence of liability consistent with the Grantee's purchasing procedures and incurred within the cooperative agreement period. All encumbrances/obligations incurred during the cooperative agreement period shall be liquidated within 90 days after the end of the grant period, if practicable.

5. Site Visits. USDOL, through its authorized representatives, has the right, at all reasonable times, to make site visits to review project accomplishments and management control systems and to provide such technical assistance as may be required. If USDOL makes any site visit on the premises of the Grantee or a sub-contractor under this grant, the Grantee shall provide and shall require its sub-contractors to provide all reasonable facilities and assistance for the safety and convenience of the Government representatives in the performance of their duties. All site visits and evaluations shall be performed in a manner that will not unduly delay the work.

V. Review and Selection of Applications for Award

A. The Review Process

USDOL will screen all applications to determine whether all required elements are present and clearly identifiable. Each complete application will be objectively rated by a technical panel against the criteria described in this announcement. Applicants are advised that the panel recommendations to the Grant Officer are advisory in nature. The Grant Officer may elect to select a Grantee on the basis of the initial application submission; or, the Grant Officer may establish a competitive or technically acceptable range for the purpose of selecting qualified applicants. If deemed appropriate, following the Grant Officer's call for the preparation and receipt of final revisions of applications, the evaluation process described above will be repeated to consider such revisions. The Grant Officer will make final selection determination based on what is most advantageous to the Government and overall best value to the Government, considering factors such as: Panel findings; demonstrated capacity of the applicant to effectively implement the proposed program; and the overall framework developed for the implementation of activities. The Grant Officer's determination for award under this SGA is final.

Note: Selection of an organization(s) as a cooperative agreement recipient does not constitute approval of the cooperative agreement application as submitted. Before the actual cooperative agreement is awarded, USDOL will enter into negotiations concerning such items as program components, administrative systems, selection process for sub-contractors, and monitoring and evaluation systems. If the negotiations do not result in an acceptable submission, the Grant Officer reserves the right to terminate the negotiation and decline to fund the application.

B. Rating Criteria and Selection

The technical panel will review applications against the various criteria on the basis of 100 points with an additional 5 points available for non-federal or leveraged resources.

The factors are presented in the order of emphasis that they will receive.

1. Approach, Understanding of the Issue, and Budget Plan (45 points).

This section of the application must demonstrate the applicant's thorough knowledge and understanding of the overall issues involved in providing and advocating for basic education to children removed from exploitative work or at risk of working; best-practice solutions to address their needs; and the implementing environment in the countries proposed for targeting under the application.

a. Structure of the education innovations program. This section of the application must explain the applicant's proposed method for performing all the specific work requirements presented in this solicitation for the development and administration of the education innovations program as listed in Section IV.A. The applicant must explain the rationale for its approach. This section should include:

(1) Number of countries targeted: Sub-contracts may be awarded in countries where the Grantee has no field office, but specific information must be provided on how the applicant intends to select and monitor all sub-contracted projects [see (4) and (7) below], including designating the office responsible for those sub-contracts. This section must also provide a plan to ensure regional and country diversity in the overall education innovations program.

(2) Method of solicitation: Detailed information on how the applicant intends to provide information at the country level regarding the availability of funds for innovative education projects.

(3) Duration of sub-contracts: USDOL stipulates that 15% of total funding should go to small projects, 45% to medium, and 40% to large, as defined in Section IV.A.3.b. The applicant should provide information on the duration of sub-contracts; all program (including sub-contract) activities must be completed and closed out by the end of September 2007).

(4) Process of project selection: The process established to select projects to be funded through sub-contracts must be competitive. Deadlines for submission of applications must be fixed (no rolling deadlines), but there may be multiple competitive deadlines. All funds must be obligated by January 2005. The applicant should explain how sub-contractors will be selected, including means of selection; types of individuals and/or organizations likely to be involved in the selection process; and administrative level(s) at which selection takes place. USDOL retains approval power prior to the final selection of any project.

(5) Criteria for project selection: The Grantee will review and accept proposals for innovative grassroots education projects from organizations around the world. Successful proposals will support the four strategic objectives of the Child Labor Education Initiative and will be funded through sub-contracts. The Grantee will develop criteria for the selection of projects. In this section, the applicant should provide preliminary criteria with accompanying rationale to explain the criteria selected. The criteria should include the following required elements:

(a) Demonstrated financial viability;

(b) Local registration in the host country;

(c) Bank account in the organization's name; and

(d) Potential for sustainability through local contributions of monetary or non-monetary resources.

(6) Funds disbursement: The applicant should provide information on how funds will be provided to sub-contractors and what types of financial controls will be instituted to ensure proper use of funds by sub-contractors and the overall programmatic message. Funds must be disbursed in accordance with 29 CFR 95.22.

(7) Monitoring and Evaluation: The applicant should describe the process for systematically reporting on project performance to measure the achievement of the program objectives and documenting best practices. An analysis of management challenges that may arise and how those will be handled should also be included in this section, as well as where the responsibility for monitoring would lie within the program structure.

b. Overview of funding option for the Grantee's field offices (country level or regional). Since the Grantee's field offices are precluded from competing for sub-contracts under the grassroots component of the education innovations program, the Grantee will be provided with up to US $750,000 for the promotion of its own innovative and promising activities, centering on the theme of education for children at work or at risk of work. All activities supported by these funds must correspond to the Child Labor Education Initiative strategic objectives; examples of activities that might be funded are located in Appendix C. The activities planned are subject to USDOL final approval. This section of the application should explain:

(1) Selection and administration: The applicant's proposed method for administering the US $750,000 component of this award to be disbursed to its field offices;

(2) Technical Sample of a proposed project. The applicant must create one (1) model work plan of a proposed project. For this competition, the work plan is merely an example of a project which might be funded with the US $750,000 provided to the Grantee for activities by its own organization that correspond to the strategic objectives of the Child Labor Education Initiative. It will not necessarily be funded under the grant, although the successful applicant will not be precluded from considering this work plan for funding under the terms of the agreement. This work plan must be one that could realistically be put into practice by the field office named and must include actual data, beneficiaries and staffing, and realistic assessments of what could be accomplished with the amount of funds provided by the project. USDOL will consider the design of the proposal, the creativity of the various activities proposed, and the types of resources to be utilized under the proposal. (Please note that the project presented in the technical sample need not utilize the entire US $750,000.) The applicant should address the following points:

(a) Describe the use of existing or potential infrastructure of the field office and the use of existing qualified personnel, including qualified nationals, to implement the project. The applicant should include a project organizational chart demonstrating management structure, personnel, and indicating proposed links with Government, business leaders, trade unions, and relevant local organizations (e.g., community-based or faith-based groups) in the country in which proposed activities would take place. However, the development of such links is not necessary and applicants will not receive any extra points for actual communications with those organizations, or for the creation of an infrastructure in that country for this competitive grant process.

(b) Develop a list of activities and explain how each relates to the overall objective of providing basic education to child laborers or to children at risk of work.

(c) Show how the project's objectives relate to the applicant's existing activities and objectives on education.

c. Implementation Plan. The applicant must submit an implementation plan, preferably with a visual such as a Gantt chart. The implementation plan must list the outcomes, objectives, outputs and activities during the life of the program, and scheduling of staff time, starting with the execution of the cooperative agreement and ending with the final report and documentation of innovative models. Applicants should provide information on the approach for producing all required deliverables and any additional outputs/deliverables it proposes to accomplish under the overall program.

d. Budget Plan. This section of the application must contain the applicant's budget plan for developing and administering both portions of the education innovations program, providing data on the costs for performing all of the requirements presented in this solicitation and for producing all required reports and other deliverables listed. Costs must include labor, equipment, travel, and other related costs. Preference may be given to applicants with lower administrative costs.

e. Management and Staff Loading Plan. This section must include a management and staff loading plan. The management plan should include the following:

(1) Location of the office that will coordinate the administration of the education innovations program;

(2) A project organization chart and accompanying narrative which differentiates between elements of the applicant's staff and sub-contractors or consultants who will be retained;

(3) The identity of the individual(s) responsible for the development and management of the program and the lines of authority between the individuals; and

(4) A detailed explanation of the monitoring and supervision system that the applicant will implement in order to ensure appropriate management of the education innovations program at both the Grantee and the sub-contractor level.

The staff loading plan should identify all key tasks and the person-days required to complete each task. Labor estimates for each task should be broken down by individuals assigned to the task at the Grantee level, including sub-contractors and consultants. All key tasks should be charted by months or weeks to show time required to perform them.

This section will be evaluated in accordance with applicable Federal laws and regulations. The budget must comply with Federal cost principles (which can be found in the applicable OMB Circulars) and with ILAB budget requirements contained in the application instructions in Section IV.D of this solicitation.

2. Experience and Qualifications of the Organization (30 points).

The evaluation criteria in this category are as follows:

a. Field Presence. The applicant must have international field presence. The applicant should provide USDOL with a listing of all its offices in both regions as well as countries or how the applicant plans to establish the necessary field presence for the projects. Preference may be given to applicants with more extensive field presence. The applicant should also show ability to support field offices through infrastructure, communication systems, technical assistance, and other systems that enhance capacity to perform in difficult field environments.

b. Education Experience. The applicant must demonstrate that it has experience in basic education (formal or non-formal), preferably working with disadvantaged populations such as working children and children removed from child labor. The applicant's capability may be demonstrated by submitting evidence in an annex on the number of contracts or grants with other organizations and the length of time of those contracts or grants. The annex should include the following information on the applicant's education projects:

(1) The organization for/with which the work was done, as relevant;

(2) A contact person in that organization with his/her current phone number;

(3) The dollar value of the grant, contract, or cooperative agreement for the project;

(4) The time frame and professional effort involved in the project;

(5) A brief summary of the work performed; and

(6) A brief summary of accomplishments.

(7) Additional capability may be demonstrated if one or more of the staff members to be assigned to oversee the education innovations program has experience in the following areas:

(a) Basic education (including student assessment, teacher training, educational materials, educational management, educational monitoring and information systems); and

(b) Education policy as it affects any disadvantaged population.

c. Program Management Experience. Prior experience at the organizational level managing numerous projects involving awarding funds to outside organizations (e.g., small projects programs) is preferred. The applicant must provide evidence of such experience, including:

(1) Total budget of the program;

(2) Administrative costs as percentage of total budget;

(3) Source of funds (e.g., donor);

(4) Size, number, and duration of grants/contracts awarded;

(5) Number of countries in which money was awarded; and

(6) Types of organizations to whom funds were awarded.

e. Sound Financial System. The results of an independent financial audit must accompany the application.

f. Monitoring System. The applicant must present evidence of a system of monitoring programs and documenting results that is already in place.

g. Partnership. If two organizations are applying for the award in the form of a partnership, they must demonstrate an approach to ensure successful collaboration including clear delineation of respective roles and responsibilities. The applicants must also identify the lead organization and submit the partnership agreement. (Please note that points will be neither awarded nor deducted for partnership formation as long as a collaborative capability can be shown.)

3. Experience and Qualifications of Key Personnel (25 points).

This section of the application must include sufficient information to judge the quality and competence of staff proposed to be assigned to the education innovations program to assure that staff meet the required qualifications. Successful performance of the proposed work depends heavily on the qualifications of the individuals committed to the program. Accordingly, in evaluating the application considerable emphasis will be placed on the applicant's commitment of personnel who are qualified to accomplish the assigned tasks. Individuals designated as key personnel must sign letters of agreement to serve and indicate availability to commence work within three weeks of grant award.

The applicant should include a resume for each professional to be assigned to the program in an annex. At a minimum, each resume should include: the individual's educational background, current employment status and previous work experience, including position title, duties performed, dates in position, and employing organizations. The resume should highlight the special capabilities of the individual that demonstrate prior experience in organizing, managing and performing similar efforts.

a. Program Director (Key Personnel). The Program Director will provide leadership, vision and technical expertise to be applied to the development of the education innovations program including thematic content, award criteria, approaches to encourage innovation, and development of a communications strategy to ensure widespread global dissemination of the objectives and requirements of the education innovations program, and later of its results. The Director must have a minimum of three years of leadership experience in the fields of international development, international education, communications, or implementation of programs and projects in developing and emerging countries. Experience in strategic planning, strategic communications, and monitoring and evaluation is preferred. Points will be given for candidates with additional years of experience.

b. Program Manager (Key Personnel). The Program Manager will take care of the day-to day operations of the education innovations program. He/She must have a minimum of three years of professional experience with the management of similar programs. Preferred candidates will also have knowledge of child labor issues and experience in the development and management of basic education programs in developing countries in areas such as education policy, improving educational quality and access, and monitoring and evaluation of basic education projects.

c. Other staff. The applicant must identify other (not key personnel) staff positions required to implement this grant, and must propose candidates for the position. The duties of the personnel should be clearly defined in terms of role performed, e.g., manager, team leader, consultant, etc. Resumes should be included in the annex.

4. Leverage of Funding (5 points).

The Department will give up to five (5) additional rating points to applications that include non-Federal resources that significantly expand the dollar amount, size and scope of the application. The applicant may include any leveraging or co-funding anticipated. To be eligible for the additional points in the criterion, the applicant must list the source(s) of funds, the nature, and possible activities anticipated with these funds under this cooperative agreement and any partnerships, linkages or coordination of activities, cooperative funding, etc.

Signed in Washington, DC, this 12th day of April, 2002.
Lawrence J. Kuss,
Grant Officer.

Appendix A: SF 424—Application Form.

Appendix B: SF 424A—Budget Information Form.

Appendix C: Guidelines for Project Selection.

BILLING CODE 4510-28-P

BILLING CODE 4510-28-C

Note: Use Column A to record funds requested for the initial period of performance (i.e. 12 months, 18 months, etc.); Column B to record changes to Column A (i.e. requests for additional funds or line item changes; and Column C to record the totals (A plus B).

Instructions for Part II—Budget Information

Section A—Budget Summary by Categories

1. Personnel: Show salaries to be paid for project personnel which you are required to provide with W2 forms.

2. Fringe Benefits: Indicate the rate and amount of fringe benefits.

3. Travel: Indicate the amount requested for staff travel. Include funds to cover at least one trip to Washington, DC for project director or designee.

4. Equipment: Indicate the cost of non-expendable personal property that has a useful life of more than one year with a per unit cost of $5,000 or more. Also include a detailed description of equipment to be purchased including price information.

5. Supplies: Include the cost of consumable supplies and materials to be used during the project period.

6. Contractual: Show the amount to be used for (1) procurement contracts (except those which belong on other lines such as supplies and equipment); and (2) sub-contracts/grants.

7. Other: Indicate all direct costs not clearly covered by lines 1 through 6 above, including consultants.

8. Total, Direct Costs: Add lines 1 through 7.

9. Indirect Costs: Indicate the rate and amount of indirect costs. Please include a copy of your negotiated Indirect Cost Agreement.

10. Training /Stipend Cost: (If allowable).

11. Total Federal funds Requested: Show total of lines 8 through 10.

Section B—Cost Sharing/Matching Summary

Indicate the actual rate and amount of cost sharing/matching when there is a cost sharing/matching requirement. Also include percentage of total project cost and indicate source of cost sharing/matching funds, i.e. other Federal source or other Non-Federal source.

Note: Please include a Detailed cost analysis of each line item.

Appendix C: Guidelines for Project Selection.

In developing their proposals, potential sub-contractors should propose an approach that will support the goals of USDOL's Child Labor Education Initiative. The Grantee will review and accept proposals for funding from organizations on objectives that buttress USDOL's Child Labor Education Initiative's four broad objectives:

1. Raise awareness of the importance of education for all children and mobilize a wide array of actors to improve and expand education infrastructures.

Actions under this objective will include awareness raising, development of multi-sectoral partnerships and networks in support of the education of child workers in target countries/worldwide, and making child workers a key target group in “Education for All” and basic education initiatives in target countries. Relevant Education for All and Dakar Framework for Action targets include: (1) early childhood education and care; (2) primary education; (3) learning achievement and outcomes; (4) training in essential skills; and (5) education for better living. Partnerships and networks can include organizations of parents, teachers, the private sector, NGOs, the media, and faith-based organizations interested in promoting the welfare and education of children and the reduction and eventual elimination of child labor.

2. Strengthen formal and transitional education systems that encourage working children and those at risk of working to attend school.

All actions under this objective will correspond to the needs of children removed from work and children at risk of working and could include pilot direct action programs to test approaches to the retention and academic success of these special target groups. Projects to be funded under the education innovations program could include targeted teacher training to improve classroom methods and strengthen the capacity of educators to nurture the academic success of children removed from child labor; development and field testing of learning materials that improve educational quality and are relevant to communities where working children live; development or improvement of pre-vocational and vocational programs; innovative partnerships with the private sector and other organizations to enhance the relevance of schooling for children and to provide marketable skills for children reaching employable age; development and pilot testing of pre-school and extracurricular/enrichment activities for children removed from work or at risk of entering the workforce.

3. Strengthen national institutions and policies on education and child labor.

Projects to be funded under the education innovations program to correspond with this objective could include country assessments with recommendations on how to effectively incorporate child laborers as a target group in Education for All and other national basic education policies; activities such as conferences and workshops that encourage consultation and joint policy and program planning among national institutions working in education and child labor policy; provision of training and technical assistance to staff of key organizations (e.g., education system and school administrators, teachers' unions, policy units in Ministries of target countries, etc.) to increase their capacity in areas such as leadership, management, strategic planning, educational finance, implementation of policy change, and outreach to constituencies in order to effectively implement education programs that benefit child laborers; the development and/or strengthening of monitoring and evaluation of the educational status and performance of children removed from work or at risk of entering the workforce.

4. Ensure the long-term sustainability of these efforts.

Projects to be funded under the education innovations program to correspond to this objective could include the development of strategies for increasing resources for the education of children removed from child labor; strengthening the capacity of organizations in the target countries to mobilize resources and develop volunteer and other programs that benefit children removed from work or at risk of entering the workforce; the development of corporate citizen and philanthropic education initiatives that benefit children removed from work or at risk of entering the workforce.

[FR Doc. 02-9517 Filed 4-17-02; 8:45 am]

BILLING CODE 4510-28-P